DEPARTMENT OF COMMERCE

International Trade Administration

A-201-834

Purified Carboxymethylcellulose from Mexico: Preliminary Results of the First Five-year (“Sunset”) Review of Antidumping Duty Order

AGENCY: Import Administration, International Trade Administration, Department of Commerce.

SUMMARY: On June 2, 2010, the Department of Commerce (the Department) initiated sunset reviews of the antidumping duty orders on purified carboxymethylcellulose (CMC) from Finland, Mexico, the Netherlands, and Sweden, pursuant to section 751(c) of the Tariff Act of 1930, as amended (the Act).

On the basis of the notice of intent to participate, and adequate substantive responses filed on behalf of the domestic and respondent interested parties, the Department is conducting a full sunset review of the antidumping duty order on CMC from Mexico, pursuant to section 751(e)(3)(B) of the Act and 19 CFR 351.218(e)(2)(i).

As a result of this sunset review, the Department preliminarily finds that revocation of the antidumping duty order with respect to CMC from Mexico would likely lead to continuation or recurrence of dumping at the levels listed below in the section entitled “Preliminary Results of Review.”

FOR FURTHER INFORMATION: Dena Crossland or Angelica Mendoza, AD/CVD Operations, Office 7, Import Administration, International Trade Administration, U.S. Department of Commerce, 14th Street and Constitution Avenue, NW, Washington, DC 20230; telephone: (202) 482-3362 or (202) 482-3019, respectively.

SUPPLEMENTARY INFORMATION:

Background

On June 2, 2010, the Department published in the Federal Register the notice of initiation of the sunset reviews of the antidumping duty orders on CMC from Finland, the Netherlands, Mexico, and Sweden, pursuant to section 751(c) of the Act. See Initiation of Five-year (“Sunset”) Review, 75 FR 30777 (June 2, 2010) (Notice of Initiation).

The Department received a notice of intent to participate from domestic interested party Aqualon Company (Aqualon) within the deadline specified in 19 CFR 351.218(d)(1)(i). The domestic interested party claimed interested party status under section 771(9)(C) of the Act, as the sole manufacturer of a domestic-like product in the United States.

The Department received complete substantive responses to the Notice of Initiation from the domestic interested party and respondent interested party, Quimica Amtex S.A. de C.V. (Quimica Amtex), within the 30-day deadline specified in 19 CFR 351.218(d)(3)(i).¹ The Department did not receive any rebuttal comments from the domestic interested party or respondent interested party.

¹ Domestic interested and respondent parties filed substantive responses on July 1, 2010, and July 2, 2010, respectively.

On July 22, 2010, the Department determined that respondent interested party accounted for more than 50 percent of exports by volume of the subject merchandise and, therefore, submitted an adequate substantive response to the Department's Notice of Initiation. See Memorandum to Richard O. Weible, Director, AD/CVD Operations, Office 7, “Adequacy Determination in the First Five-year “Sunset Review” (2005 through 2009) of the Antidumping Duty Order on Purified Carboxymethylcellulose from Mexico,” dated July 22, 2010 (Adequacy Memo). The Department also determined that the domestic interested party submitted an adequate response. See Adequacy Memo at 2 and 19 CFR 351.218(d)(3)(ii) and 19 CFR 351.218(e)(1)(A). In accordance with 19 CFR 351.218(e)(2)(i), the Department determined to conduct a full sunset review of this antidumping duty order and notified the U.S. International Trade Commission. See Letter to Ms. Catherine DeFilippo, Director, Office of Investigations, U.S. International Trade Commission, from James Maeder, Director, Office 2, AD/CVD Operations, entitled “Expedited and Full Sunset Reviews of the Antidumping Duty Orders Initiated in June 2010,” dated July 22, 2010.

On September 15, 2010, the Department contacted Aqualon regarding the reference to Harmonized Tariff Schedule of the United States (HTSUS) number 3913.31.00.10 at 12 of the Appendix of its substantive response, dated July 1, 2010. Aqualon stated on September 15, 2010, that it had mistakenly referenced the wrong HTSUS number in its substantive response and intended to reference HTSUS number 3912.31.00.10. See Memorandum to the File from Dena Crossland, Regarding Preliminary Results of First Sunset Review of the Antidumping Duty Order on Purified Carboxymethylcellulose from Mexico; Correction to Domestic Interested Party's July 1, 2010, Substantive Response, dated September 16, 2010.

Scope of the Order

The merchandise covered by the order is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations, which, at a minimum, reduce the remaining salt and other by-product portion of the product to less than ten percent. The merchandise subject to the order is currently classified in the HTSUS at subheading 3912.31.00.² This tariff classification is provided for convenience and Customs purposes; however, the written description of the scope of the order is dispositive.

² Although HTSUS number 3912.31.00.10 may be more specific to subject merchandise, it was not created until 2005. As such, we are relying on HTSUS number 3912.31.00 for purposes of this sunset review because in determining whether revocation of an order would likely lead to continuation or recurrence of dumping, the Department considers the margins established in the investigation and/or reviews conducted during the sunset review period as well as the volume of imports for the periods before and after the issuance of the order. See section 752(c)(1) of the Act.

Analysis of Comments Received

All issues raised in this review are addressed in the “Issues and Decision Memorandum for the Preliminary Results of First Sunset Review of the Antidumping Duty Order on Purified Carboxymethylcellulose from Mexico,” from Susan H. Kuhbach, Acting Deputy Assistant Secretary for Antidumping and Countervailing Duty Operations, to Ronald K. Lorentzen, Deputy Assistant Secretary for Import Administration (Decision Memo), which is hereby adopted by, and issued concurrently with, this notice. The issues discussed in the Decision Memo include the likelihood of continuation or recurrence of dumping and the magnitude of the margins likely to prevail if the order were revoked. Parties can find a complete discussion of all issues raised in this review and the corresponding recommendations in this public memorandum which is on file in the Central Records Unit, room 7046 of the main Commerce Department building. In addition, a complete version of the Decision Memo can be accessed directly on the Web at http://ia.ita.doc.gov/frn/index.html. The paper copy and electronic version of the Decision Memo are identical in content.

Preliminary Results

The Department preliminarily determines that revocation of the antidumping duty order on CMC from Mexico is likely to lead to continuation or recurrence of dumping at the following weighted-average margins:

Quimica Amtex | 12.61 percent
All Others | 12.61 percent

Public Comment

Any interested party may request a hearing within 30 days of publication of this notice in accordance with 19 CFR 351.310(c). Consistent with 19 CFR 351.309(c)(1)(i), interested parties may submit case briefs no later than 30 days after the date of publication of this notice. Rebuttal briefs, which must be limited to issues raised in the case briefs, may be filed no later than 5 days after the time limit for filing the case briefs, in accordance with 19 CFR 351.309(d)(1). Any hearing, if requested will be held two days after rebuttal briefs are due, unless the Department alters the date, in accordance with 19 CFR 351.310(d)(1). The Department intends to issue a notice of final results of the first sunset review, which will include the results of its analysis of issues raised in any such briefs, no later than January 28, 2011.

This five-year (“sunset”) review and notice are in accordance with sections 751(c), 752(c), and 777(i)(1) of the Act.

Dated: September 20, 2010.
Ronald K. Lorentzen,
Deputy Assistant Secretary for Import Administration.

[FR Doc. 2010-24458 Filed 9-28-10; 8:45 am]

BILLING CODE 3510-DS-S